FEDERAL COMMUNICATIONS COMMISSION

47 CFR Part 73

[DA 05-1732, MB Docket No. 04-300, RM-11022, RM-11105]

Radio Broadcasting Services; Fruita and Hotchkiss, CO

AGENCY: Federal Communications Commission.

ACTION: Final rule.

SUMMARY: This document grants a petition filed by Dana Puopolo proposing the allotment of Channel 255C3 at Fruita, Colorado, as that community's second local service. See 69 FR 51034, published August 17, 2004. This document also grants a counterproposal filed by Hotchkiss Communications by allotting Channel 258C3 at Hotchkiss, Colorado, as its first local service. Channel 255C3 can be allotted to Fruita, Colorado with a site restriction of 14 kilometers (8.7 miles) northeast at coordinates 39-15-05 NL and 108-50-16 WL. This site restriction is necessary to avoid short-spacing to the New FM station, Channel 253C3 at Palisade, Colorado. Channel 258C3 can be allotted to Hotchkiss, Colorado with a site restriction of 3.8 kilometers (2.4 miles) south at coordinates 38-46-03 NL and 107-42-17 WL. This site restriction is necessary to avoid short-spacing to FM Station KEKB, Channel 260C, Fruita, Colorado.

DATES: Effective August 8, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 04-300, adopted June 22, 2005, and released June 24, 2005. The full text of this Commission decision is available for inspection and copying during normal business hours in the Commission's Reference Center, 445 Twelfth Street, SW., Washington, DC 20554.

The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Colorado, is amended by adding Channel 255C3 at Fruita and by adding Hotchkiss, Channel 258C3.

Federal Communications Commission.
John A. Karousos,
Assistant Chief, Audio Division, Media Bureau.

[FR Doc. 05-13565 Filed 7-12-05; 8:45 am]

BILLING CODE 6712-01-P